DEPARTMENT OF HOMELAND SECURITY

Coast Guard

33 CFR Parts 100 and 165

[Docket No. USCG-2011-0286]

RIN 1625-AA00; 1625-AA08

Eighth Coast Guard District Annual Marine Events and Safety Zones

AGENCY: Coast Guard, DHS.

ACTION: Direct final rule; request for comments.

SUMMARY: The Coast Guard is amending and updating its special local regulations and safety zones relating to recurring marine parades, regattas, fireworks displays, and other events that take place in the Eighth Coast Guard District area of responsibility. This rule informs the public of regularly scheduled marine parades, regattas, fireworks displays, and other annual events. When these special local regulations and safety zones are enforced, marine traffic is restricted in specified areas. The purpose of this rule is to reduce administrative costs involved in producing a separate rule for each individual recurring event and to provide notice of the known recurring events requiring a special local regulation or safety zone throughout the year. This rule will also help to protect event participants and the public from the hazards associated with the listed events.

DATES: This rule is effective May 30, 2012, unless an adverse comment, or notice of intent to submit an adverse comment, is either submitted to our online docket via http://www.regulations.gov on or before April 2, 2012 or reaches the Docket Management Facility by that date. If an adverse comment, or notice of intent to submit an adverse comment, is received by April 2, 2012, we will withdraw this direct final rule and publish a notice of withdrawal in the Federal Register.

ADDRESSES: You may submit comments identified by docket number USCG-2011-0286 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this rule, call or email Shelley R. Miller, Eighth Coast Guard District Waterways Management Division, (504) 671-2139 or email, Shelley.R.Miller@uscg.mil. If you have questions on viewing the docket, call Renee V. Wright, Program Manager, Docket Operations, telephone 202-366-9826.

SUPPLEMENTARY INFORMATION:

Public Participation and Request for Comments

We encourage participation in this rulemaking by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this rulemaking (USCG-2011-0286), indicate the specific section of this document to which each comment applies, and provide a reason for each suggestion or recommendation. You may submit your comments and material online (via http://www.regulations.gov) or by fax, mail or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, click on the “submit a comment” box, which will then become highlighted in blue. Insert “USCG-2011-0286” in the “Search” box. Click “Search” then click on “Submit a Comment” in the “Actions” column.

If you submit comments by mail or hand delivery, submit them in an unbound format, no larger than 8½ by 11 inches, suitable for copying and electronic filing. If you submit comments by mail and would like to know that they reached the Facility, please enclose a stamped, self-addressed postcard or envelope. We will consider all comments and material received during the comment period and may change this rule based on your comments.

Viewing Comments and Documents

To view comments, as well as documents mentioned in this preamble as being available in the docket, go to http://www.regulations.gov. Insert “USCG-2011-0286” in the Search box and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one to the Docket Management Facility at the address under ADDRESSES explaining why one would be beneficial. If we determine that one would aid this rulemaking, we will hold one at a time and place announced by a later notice in the Federal Register.

Regulatory Information

We are publishing this direct final rule under 33 CFR 1.05-55 because we do not expect an adverse comment. If no adverse comment or notice of intent to submit an adverse comment is received by April 2, 2012, this rule will become effective as stated in the DATES section. In that case, approximately 30 days before the effective date, we will publish a document in the Federal Register stating that no adverse comment was received and confirming that this rule will become effective as scheduled. However, if we receive an adverse comment or notice of intent to submit an adverse comment, we will publish a document in the Federal Register announcing the withdrawal of all or part of this direct final rule. If an adverse comment applies only to part of this rule (e.g., to an amendment, a paragraph, or a section) and it is possible to remove that part without defeating the purpose of this rule, we may adopt, as final, those parts of this rule on which no adverse comment was received. We will withdraw the part of this rule that was the subject of an adverse comment. If we decide to proceed with a rulemaking following receipt of an adverse comment, we will publish a separate notice of proposed rulemaking (NPRM) and provide a new opportunity for comment.

A comment is considered “adverse” if the comment explains why this rule or a part of this rule would be inappropriate, including a challenge to its underlying premise or approach, or would be ineffective or unacceptable without a change.

Basis and Purpose

The Coast Guard is amending and updating the special local regulations and safety zones under 33 CFR parts 100 and 165 to incorporate the numerous annual marine events held on or around navigable waters within the Eighth Coast Guard District. These events include marine parades, boat races, swim events, fireworks displays, and other marine related events. In the past, a special local regulation or safety zone for each individual event was established separately. Currently, there is a list of events located at 33 CFR part 100, establishing a special local regulation for each annually recurring marine event. That list requires amending and updating to include 136 new events expected to recur annually (and for which temporary rules have typically been enacted each year), remove 44 events that no longer occur, and to properly categorize 83 events requiring either a special local regulation or a safety zone. Issuing individual regulations for each new event, event requiring amendment, or removing or re-categorizing an event creates unnecessary administrative costs and burdens. This rule considerably reduces the administrative overhead and provides the public with notice through publication in the Federal Register of the upcoming recurring marine events and their accompanying special local regulations and safety zones.

Amending and updating the established permanent regulations for marine events eliminates the need to issue individual temporary rules for each recurring event. The Coast Guard encourages the public to participate in this rulemaking so that any changes necessary can be identified and implemented in a timely and efficient manner.

Discussion of Rule

33 CFR part 100 contains regulations to provide effective control over regattas and marine parades conducted on U.S. navigable waters to ensure safety of life in the regattas or marine parade area. Section 100.801 regulates events that take place in the Eighth Coast Guard District. This section requires amendment and update to properly reflect the annually recurring marine events requiring special local regulations in the Eighth Coast Guard District. The events listed in Table 1 of Section 100.801 are amended and updated to reflect current events as presented in this rule.

This rule also modifies 33 CFR part 165 which provides for the establishment of safety zones to ensure marine safety during fireworks displays, air shows and other marine events recurring annually and requiring a safety zone. A new table listing the annually recurring safety zones in the Eighth Coast Guard District is added to 33 CFR 165.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, as supplemented by Executive Order 13563, Improving Regulation and Regulatory Review, and does not require an assessment of potential costs and benefits under section 6(a)(3) of that Executive Order 12866 or under section 1 of Executive Order 13563. The Office of Management and Budget has not reviewed it under those Orders.

The Coast Guard expects the economic impact of this rule to be so minimal that a full regulatory evaluation is unnecessary. The marine parades, regattas, fireworks displays, and other events listed in this rule will restrict vessel traffic transiting certain areas of Eighth Coast Guard District waters at specified times; however the effect of this regulation will not be significant because these events are short in duration and the special local regulation or safety zone restricting and governing vessel movements are also short in duration. Additionally, the public is given advance notification through the Federal Register and/or Notices of Enforcement and thus will be able to plan operations around the events in advance.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule may affect the following entities, some of which might be small entities: The owners or operators of vessels intending to transit the regulated area during the marine parades, regattas, fireworks displays, and other events. The special local regulations and safety zones will not have a significant economic impact on a substantial number of small entities for the following reasons. These regulations will be in effect for short periods of times. Before the effective period, the Coast Guard Captain of the Port will issue maritime advisories widely available to waterway users.

Therefore, the Coast Guard certifies under 5 U.S.C. 605(b) that this final rule will not have a significant economic impact on a substantial number of small entities.

Assistance for Small Entities

Under section 213(a) of the Small Business Regulatory Enforcement Fairness Act of 1996 (Pub. L. 104-121), we offer to assist small entities in understanding the rule so that they can better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small businesses. If you wish to comment on actions by employees of the Coast Guard, call 1-888-REG-FAIR (1-888-734-3247).

The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 0023.1 and Commandant Instruction M16475.lD, which guide the Coast Guard in complying with the National Environmental Policy Act of 1969 (NEPA) (42 U.S.C. 4321-4370f), and have concluded that this action is one of a category of actions which do not individually or cumulatively have a significant effect on the human environment. This rule is categorically excluded under section 2.B.2, figure 2-1, paragraphs (34)(g) and (34)(h) of the Instruction because it involves establishment of safety zones and special local regulations for marine parades, regattas, fireworks displays, and other events. An Environmental analysis and a categorical exclusion determination are available in the docket where indicated under ADDRESSES.

List of Subjects

33 CFR Part 100

Marine safety, Navigation (water), Reporting and recordkeeping requirements, and Waterways.

33 CFR Part 165

Harbors, Marine safety, Navigation (water), Reporting and recordkeeping requirements, Security measures, Waterways.

For the reasons discussed in the preamble, the Coast Guard amends 33 CFR parts 100 and 165 as follows:

PART 100—REGATTAS AND MARINE PARADES

1. The authority citation for part 100 continues to read as follows:

Authority: 33 U.S.C. 1233.

2. Amend § 100.801 by revising table 1 to read as follows:

§ 100.801 Annual Marine Events in the Eighth Coast Guard District.

* * * * *

Table 1 of § 100.801—Eighth Coast Guard District Table of Annual Marine Events
Table No. | Sector Ohio Valley | Date | Event/sponsor | Sector Ohio Valley location | Regulated area
1 | 1 | Labor Day weekend | Wheeling Vintage Regatta/Wheeling Vintage Race Boat Association | Ohio River, Wheeling, WV | Ohio River, mile marker 90.4 to 91.5, Wheeling, WV.
2 | 2 | The Saturday before Memorial Day weekend | Venture Outdoors Festival/Venture Outdoors | Allegheny River, Pittsburgh, PA | Allegheny River, 0.0-1.0 Pittsburgh, PA.
3 | 3 | One day during the fourth week in July | Oakmont Yacht Club Regatta/Oakmont Yacht Club | Allegheny River, Oakmont, PA | Allegheny River, mile marker 10.8 to 12.5, Oakmont, PA.
4 | 4 | One day during the last two weeks in July or first week of August | Pittsburgh Triathlon/Piranha Sports LLC | Allegheny River, Pittsburgh, PA | Allegheny River, mile marker 0.0 to 1.0, Pittsburgh, PA.
5 | 5 | The second Sunday in August | Spirit of Morgantown Triathlon/Greater Morgantown Convention and Visitors Bureau | Monongahela River, Morgantown, WV | Monongahela River, mile marker 101.0 to 102.0, Morgantown, WV.
6 | 6 | One day in the first week of October | Head of the Ohio/Three Rivers Rowing Association | Allegheny River, Pittsburgh, PA | Allegheny River, mile marker 0.0 to 3.5, Pittsburgh, PA.
7 | 7 | First Weekend in May | Kentucky Lake Sailing Club/Riddle Cup Regatta | Grand Rivers, KY | No Regulated Area, Sailing vessels will not impede navigation.
8 | 8 | First weekend in October | Kentucky Lake Sailing Club/100K Distance Race | Grand Rivers, KY | No Regulated Area, Sailing vessels will not impede navigation.
9 | 9 | Second Weekend in September | Kentucky Lake Sailing Club/Watkins Cup Regatta | Grand Rivers, KY | No Regulated Area, Sailing vessels will not impede navigation.
10 | 10 | Third Weekend In July | Paducah Summer Festival/Cross River Swim | Paducah, KY | The Ohio River From mile marker 934-936 will be closed to all traffic due to the hazardous conditions associated with personnel swimming across the Ohio River at mile marker 935. Estimated time of restriction is 2 hours.
11 | 11 | First weekend in June | Kentucky Drag Boat Association/Pisgah Bay Boat Races | Grand Rivers KY | No wake zone in Pisgah Bay, mile marker 30 Tennessee River. Zone is in a bay roughly ½ mile from navigation channel. No restrictions placed on navigation.
12 | 12 | Second Weekend in July | Kentucky Drag Boat Association/Pisgah Bay Boat Races | Grand Rivers KY | No wake zone in Pisgah Bay, mile marker 30 Tennessee River. Zone is in a bay roughly ½ mile from navigation channel. No restrictions placed on navigation.
13 | 13 | Last Weekend in July or First Weekend in August | Kentucky Drag Boat Association/Pisgah Bay Boat Races | Grand Rivers KY | No wake zone in Pisgah Bay, mile marker 30 Tennessee River. Zone is in a bay roughly ½ mile from navigation channel. No restrictions placed on navigation.
14 | 14 | June through October | Common Wealth Yacht Club/CYC Sailing Series | Grand River KY | No Regulated Area, Sailing vessels will not impede navigation.
15 | 15 | Last Weekend in September | Common Wealth Yacht Club/Commonwealth Cup Regatta | Grand Rivers, KY | No Regulated Area, Sailing vessels will not impede navigation.
16 | 16 | 1 day—The last week of April or the first week of May | Great Steam Boat Race/Kentucky Derby Festival | Louisville, KY | Bank to Bank of the Ohio River, mile marker 597.0 to 604.3.
17 | 17 | 3 days Last weekend in June | Thunder on the Ohio/Evansville Freedom Festival | Evansville, IN | Bank to Bank Ohio River mile marker 792.0 to 93.0.
18 | 18 | 3 days—July 2-4 | Madison Regatta/Madison Regatta Inc | Madison, KY | Bank to Bank of the Ohio River mile marker 555.0 to 560.0.
19 | 19 | 1 day—The 3rd weekend in July | Cardinal Harbour Triathlon | Finchville, KY | Bank to Bank of the Ohio River at mile marker 589.0.
20 | 20 | 1 day—The 1st weekend of August | Ducks On the Ohio/Evansville Goodwill Industries | Evansville, KY | Bank to Bank of the Ohio River at mile marker 752.0.
21 | 21 | 1 day—The last weekend of August | World Triathlon Corporation | Louisville, KY | Bank to Bank of the Ohio River, mile marker 601.5 to 604.5.
22 | 22 | Second Saturday in April | Marietta Invitational Rowing Regatta | West Marietta, Muskingum River | Muskingum River mile marker 1.5 to .5.1.5 miles upriver from the confluence of the Muskingum and Ohio Rivers on the Muskingum River to 1 mile downriver on the Muskingum River.
23 | 23 | Third or Fourth Saturday in April | West Virginia Governor's Cup | Charleston, WV, Kanawha River | Kanawha River mile marker 59.4 to 61.9, downstream of Daniel Boone Boat Ramp to ½ mile downriver past the University of Charleston.
24 | 24 | Second weekend in July | Marietta Riverfront Roar | Marietta, OH Ohio River | Ohio River mile marker 172.6 to 171.6.
25 | 25 | First weekend in August | Summerfest | Guyandotte, WV. Ohio River | Ohio River mile marker 305.5 to 304.2, ½ mile up and down river from the Proctorville Bridge, which crosses from Guyandotte, WV to Proctorville, OH.
26 | 26 | Third Weekend in August | Toyota Governor's Cup | Charleston, WV. Kanawha River | Kanawha River mile marker 56.7 to 57.6. From the I-64 bridge which is right below the confluence of the Elk and Kanawha Rivers to 1 mile down river.
27 | 27 | Second or Third weekend in September | Ohio Sternwheel Festival | Parkersburg, WV Ohio River | Restricted area for the sternwheel race reenactment extending from mile marker 172.4 to 170.3.2 on the Ohio River. Safety zone for the fireworks display, extending from mile marker 171.5 to 172.5 (about ½ mile up and down river from the confluence of the Ohio and Muskingum Rivers). (See 33 CFR 165).
28 | 28 | First weekend in October | Star USA Capital City Challenge | Charleston, WV Kanawha River | Kanawha River mile marker 62.2 to 57.2, ½ mile upriver from the Daniel Boone Boat Launch downriver ½ mile past the confluence of the Elk and Ohio Rivers.
29 | 29 | Last weekend in September | Waterworks half marathon and sprint races rowing regatta | Charleston, WV Kanawha River | Kanawha River mile marker 171.7 to 172.7. A regulated area will exist around the confluence of the Muskingum and Ohio Rivers—approximately ½ mile each way.
30 | 30 | The 2nd weekend in September | Clarksville Riverfest/City of Clarksville | Clarksville, TN | Cumberland River mile marker 125.0 to 126.0.
31 | 31 | The 3rd weekend in June. | The Great Kiwanis Duck Race/Kiwanis Club of Chattanooga | Chattanooga, TN | Tennessee River mile marker 463.0 to 464.0.
32 | 32 | 1st weekend in May | Rev3 Triathlon Series/Rev3 | Knoxville, TN | Tennessee River mile marker 646.0 to 649.0.
33 | 33 | 2nd weekend in June | Chattanooga River Rats Open Water Swim/Chattanooga Parks and Recreation | Chattanooga, TN | Tennessee River mile marker 464.0 to 469.0.
34 | 34 | 2nd weekend in July | Chattanooga Waterfront Triathlon/ Team Magic | Chattanooga, TN | Tennessee River mile marker 463.0 to 465.0.
35 | 35 | 4th weekend in July | Music City Triathlon/Team Magic | Nashville, TN | Cumberland River mile marker 190.0 to 192.0.
36 | 36 | 3rd weekend in August | Pro Wakeboard Tour/World Sports and Marketing | Knoxville, TN | Tennessee River mile marker 647.0 to 648.0.
37 | 37 | 2nd weekend in August | Dragon Boat and River Festival/Cumberland River Compact | Nashville, TN | Cumberland River mile marker 190.0 to 192.0.
38 | 38 | 3rd weekend in September | Great Nashville Duck Race/Boys and Girls Club of Middle Tennessee | Nashville, TN | Cumberland River mile marker 190.0 to 192.0.
39 | 39 | 1st weekend in October | Chattanooga Head Race/Lookout Rowing Club | Chattanooga, TN | Tennessee River mile marker 464.0 to 467.0.
40 | 40 | 1st weekend in November | Head of the Hooch Rowing Regatta/Lookout Rowing Club | Chattanooga, TN | Tennessee River mile marker 463.0 to 469.0.
41 | 41 | The last weekend in August | A Roar of Thunder/Aurora Riverfront Beautification Committee | Ohio River, Aurora, IN | Ohio River mile marker 496.0 to 499.0, Aurora, IN.
42 | 42 | The last Saturday in June | Ohio River Way Paddlefest/Ohio River Way Inc | Ohio River, Cincinnati, OH | Ohio River mile marker 459.5 to 471.5, Cincinnati, OH.
43 | 43 | The fourth Saturday in July | Great Ohio River Swim/Ohio River Way Inc | Ohio River, Cincinnati, OH | Ohio River mile marker 469.7 to 470.3, Cincinnati, OH.
44 | 44 | The fourth Sunday of July | Cincinnati Triathlon/Tucson Racing | Ohio River, Cincinnati, OH | Ohio River mile marker 469.3 to 470.3, Cincinnati, OH.
45 | 45 | Third Saturday in October | Head of the Kanawha Rowing Regatta | Kanawha River | From mile marker 62.4, half mile up river from the Daniel Boone public boat ramp down to mile marker 57.4, half mile downriver from the confluence of the Elk River and the Kanawha River.

| Sector Upper Mississippi River | Date | Event/sponsor | Sector Upper Mississippi River location | Regulated area
46 | 1 | 1 day—Third Saturday in May | Clear Lake Chapter of the ACBS/That was then, This is Now Boat Show & Exhibition | Quad Cities, IL | Upper Mississippi River mile marker 454.0 to 456.0 (Iowa).
47 | 2 | 1 day—Third Saturday in March | Lake West Chamber of Commerce/St. Patrick's Water Parade | Lake of the Ozarks, MO | Lake of the Ozarks mile marker 5.0 to 10.0 (Missouri).
48 | 3 | 1 day—Third Saturday in July | Marine Max/Aqua Plooza | Lake of the Ozarks, MO | Lake of the Ozarks Mile marker 18.7 to 19.3 (Missouri).
49 | 4 | 2 day—Third Weekend in July | Champboat Series LLC/Aquatennial Power Boat Grand Prix | Minneapolis, MN | Upper Mississippi River mile marker 854.8 to 855.8 (Minnesota).
50 | 5 | 2 day—Third weekend in June | Lake City Chamber of Commerce/Water Ski Days | Lake City, MN | Upper Mississippi River mile marker 772.4 to 772.8 (Minnesota).
51 | 6 | 2 days—First week of August | River City Days Association/River City Days | Red Wing, MN | Upper Mississippi River mile marker 791.4 to 791.8 (Minnesota).
52 | 7 | 2 days—Second weekend of September | St. Louis Drag Boat Association/New Athens Drag Boat Race | New Athens, IL | Kaskaskia River mile marker 28.0 to 29.0 (Illinois).
53 | 8 | 2 day—Third weekend in July | Havana Chamber of Commerce/Havana Boat Races | Havana, IL | Illinois River mile marker 120.3 to 119.7 (Illinois).
54 | 9 | 3 days—Third weekend in August | K.C. Aviation Expo & Air Show/K.C. Aviation Expo & Air Show | Kansas City, MO | Missouri River mile marker 366.3 to 369.8 (Missouri).
55 | 10 | 3 days a week from May 4th-September 30th | Twin City River Rats Organization/Twin City River Rats | Twin Cities, MN | Upper Mississippi River mile marker 855.4 to 855.8 (Minnesota).

| Sector Houston-Galveston | Date | Event/sponsor | Sector Houston- Galveston location | Regulated area
56 | 1 | A Saturday evening within the Mardi Gras Season (February or March) | Yachty Gras | Clear Lake, TX | Clear Creek Channel from approximate position Latitude 29°33′16.8″ N, Longitude 095°03′39.6″ W in Clear Lake thence east/northeast in the Clear Creek Channel to approximate position Latitude 29°32′58.8″ N, Longitude 095°00′30.6″ W in Galveston Bay. (NAD 83).
57 | 2 | A Saturday morning in April | Memorial Hermann Gateway to the Bay Triathlon | Galveston Bay, TX | Galveston Bay within an area beginning at Latitude 29°32′38.02″ N, Longitude 095°00′58.30″ W thence east to Latitude 29°32′46.73”N, Longitude 094°59′50.36″ W, thence south to Latitude 29°32′36.98″ N, Longitude 094°59′50.32″ W, thence west to 29°32′30.86″ N, Longitude 095°00′56.91″ W thence along the shoreline to the point of beginning. (NAD 83).
58 | 3 | The 1st Sunday afternoon in May | Blessing of the Fleet | Clear Lake, TX | Clear Creek Channel from approximate position Latitude 29°33′16.8″ N, Longitude 095°03′39.6″ W in Clear Lake thence east/northeast in the Clear Creek Channel to approximate position Latitude 29°32′58.8″ N, Longitude 095°00′30.6″ W in Galveston Bay. (NAD 83).
59 | 4 | 3 days during the 1st weekend in May (including partial weekends) | RiverFest Power Boat Races/Port Neches Chamber of Commerce. | Neches River, Port Neches, TX | Adjacent to Port Neches Park—all waters of the Neches River shoreline to shoreline south of 30°00′08″ N and west of 093°56′00″ W (NAD 83).
60 | 5 | 2nd or 3rd weekend in September | SPORT Power Boat Races/City of Orange, TX Convention/Visitors Bureau | Sabine River, Orange, TX | Adjacent to the Orange, TX public boat ramp—all waters of the Sabine River, shoreline to shoreline, south of 30°05′33″ N and north of 30°05′45″ N (NAD 83).
61 | 6 | The 2nd Saturday night in December | Christmas Boat Parade on Clear Lake | Clear Lake, TX | Clear Creek Channel from approximate position Latitude 29°33′16.8″ N, Longitude 095°03′39.6″ W in Clear Lake thence east/northeast in the Clear Creek Channel to approximate position Latitude 29°32′58.8″ N, Longitude 095°00′30.6″ W in Galveston Bay. (NAD 83).

| Sector Corpus Christi | Date | Event/sponsor | Sector Corpus Christi location | Regulated area
62 | 1 | 2nd, 3rd or 4th Wednesday thru Sunday in April | Corpus Christi Yacht Club/World Kite-boarding Championship | Corpus Christi Bay, Corpus Christi, TX | All waters contained within 1-mile of McGee Beach where participants will race through course markers.
63 | 2 | 2nd, 3rd or 4th Thursday thru Saturday in April | M.M.D. Communications Corporation/Texas International Boat Show | Corpus Christi Marina/Corpus Christi, TX | All waters inside the Corpus Christi Marina Breakwater, Corpus Christi, TX.
64 | 3 | 2nd, 3rd or 4th Thursday thru Saturday in April OR 1st or 2nd Thursday thru Saturday in May | American Power Boat Association/Power Boat Races | Corpus Christi Bay, Corpus Christi, TX | All waters of the Corpus Christi Marina contained between the People's Street T-Head on the west, the primary breakwater on the east, the southern boundary running from the southernmost tip of the People's Street T-Head (approx 27-47-43.4N 097-23-16W) along a line running due east to the breakwater (approx 27-47-43.8N 097-23-5.2W), and the northern boundary line running from the northern most tip of the secondary breakwater (approx 27-47-57N 097-23-21.7W) and the end of the primary breakwater (approx 27-47-59.1N 097-23-9.5W).
65 | 4 | 3rd or 4th Friday-Sunday in April | Corpus Christi Yacht Club/Port Aransas Ladies Regatta | Corpus Christi Bay, Corpus Christi, TX | All waters south of the Corpus Christi Ship Channel and 5-miles East of the Corpus Christi Marina.
66 | 5 | 2nd, 3rd or 4th Thursday-Sunday in May | Corpus Christi Yacht Club/Melges 24′ Championship Regatta | Corpus Christi Bay, Corpus Christi, TX | All waters south of the Corpus Christi Ship Channel and 5-miles East of the Corpus Christi Marina.
67 | 6 | 1st or 2nd Friday and Saturday in June | Corpus Christi Yacht Club/Changes in L'Attitude Regatta | Corpus Christi Bay, Corpus Christi, TX | All waters south of the Corpus Christi Ship Channel and 5-miles East of the Corpus Christi Marina.
68 | 7 | 1st or 2nd Saturday and Sunday in August | Corpus Christi Yacht Club/Navy Regatta | Corpus Christi Bay, Corpus Christi, TX | All waters south of the Corpus Christi Ship Channel and 5-miles East of the Corpus Christi Marina.
69 | 8 | 3rd or 4th Wednesday thru Saturday in August | Corpus Christi Yacht Club/Corpus Christi Race Week | Corpus Christi Bay, Corpus Christi, TX | All waters south of the Corpus Christi Ship Channel and 5-miles East of the Corpus Christi Marina.
70 | 9 | 3rd or 4th Friday and Saturday in September | Corpus Christi Yacht Club/Bill Best Regatta | Corpus Christi Bay, Corpus Christi, TX | All waters south of the Corpus Christi Ship Channel and 5-miles East of the Corpus Christi Marina.
71 | 10 | 1st Saturday in December | City of Corpus Christi/Harbor Lights Boat Parade | Corpus Christi Marina/Corpus Christi, TX | All waters inside the Corpus Christi Marina Breakwater, Corpus Christi, TX.
72 | 11 | 1st or 2nd Friday and Saturday in December | Aransas Pass Yacht Club/Christmas Lighted Boat Parade | Conn Brown Harbor/Aransas Pass, TX | All waters contained within Conn Brown Harbor in Aransas Pass, TX.
73 | 12 | 1st or 2nd Friday and Saturday in December | Padre Island Yacht Club/La Posada Lighted Boat Parade | Canals along the North Padre Island in Corpus Christi, TX | All waters along the parade route contained within the North Padre Island canals in Corpus Christi, TX.
74 | 13 | 1st or 2nd Friday thru Sunday in December | Corpus Christi Yacht Club/Frost Bite Regatta | Corpus Christi Bay, Corpus Christi, TX | All waters south of the Corpus Christi Ship Channel and 5-miles East of the Corpus Christi Marina.

| Sector New Orleans | Date | Event/sponsor | Sector New Orleans location | Regulated area
75 | 1 | The Monday before Mardi Gras | Riverwalk Marketplace, Lundi Gras Boat Parade | Mississippi River, New Orleans, LA | Lower Mississippi River, Above Head of Passes, from mile marker 93 to 96, extending the entire width of the river in the vicinity of the Riverwalk, New Orleans, LA.
76 | 2 | One day during the last weekend of April | Family Fun Festival Pirogue Race/Bayou Civic Club | Larose, LA | In Bayou Lafourche, race begins at LA HWY 657 (Lat: 29°34′17.29″ N; Long: 090°22′58.60″ W) and ends at the Larose Locks (Lat: 29°34′06.20″ N; Long: 090°22′26.50″ W) Part of Bayou Lafourche will be closed for 30 minutes to vessel traffic for race to occur.
77 | 3 | The 3rd Sunday in April | Blessing of the Shrimp Fleet/St. Joseph's Catholic Church | Chauvin, LA | Starts at Bayou Petit Caillou (Lat: 29°27′43.84″ N; Long: 090°35′19.50″ W) and continues to Lake Boudreaux/Boudreaux Canal (Lat: 29°23′30.83″ N; Long: 090°38′13.64″ W).
78 | 4 | The 1st weekend after Easter | Blessing of the Fleet and Boat Parade/Our Lady of Prompt Succor Catholic Church | Golden Meadow, LA | Starts on Bayou Lafourche at Our Lady of Prompt Succor Catholic Church (Lat: 29°23′47.25″ N; Long: 090°16′17.72″ W) to the Parish Limits (Lat: 29°25′09.96″ N; Long: 090°17′12.26″ W) to the end of Golden Meadow Business District (Lat: 29°22′16.86″ N; Long: 090°15′32.46″ W) and returning to starting point.
79 | 5 | The 2nd Sunday after Easter | Grand Caillou Boat Blessing/Holy Family Church | Dulac, LA | Bayou Grand Caillou, Starts 29°25′30.98″ N, 090°41′59.91″ W; to 29°14′42.13″ N, 090°44′03.57″ W; to 29°22′15.44″ N, 090°43′53.84″ W; and returning to starting point.
80 | 6 | Month of July | Deep South Racing Association/Battle at the Butte | Atchafalaya River at Butte La Rose, LA | Atchafalaya River, Butte La Rose, LA.
81 | 7 | Month of July or August | Battle of the Basin Boat Races, Morgan City, LA | Morgan City, LA | Morgan City Port Allen Route at mile marker 4.5, Morgan City, LA.
82 | 8 | 1st weekend of September | LA Shrimp and Petroleum Festival Fleet Blessing, LA Shrimp and Petroleum Festival and Fair Association | Morgan City, LA | Atchafalaya River at mile marker 118.5, Morgan City, LA.

| Sector Lower Mississippi River | Date | Event/sponsor | Sector Lower Mississippi River location | Regulated area
83 | 1 | The 1st or 2nd Saturday in May | Memphis in May Canoe & Kayak Race/Outdoor Inc | Lower Mississippi River, Memphis, TN | Regulated Area: Lower Mississippi River, mile marker 735.5 to 738.5, Memphis, TN.
84 | 2 | Second Saturday in October | Phatwater Kayak Challenge/Phatwater Kayak Challenge Inc | Lower Mississippi River, Natchez, MS | Regulated Area: Lower Mississippi River, mile marker 363.0 to 405.0, Natchez, MS.
85 | 3 | 1st of January | Ski Freeze/The Dream Factory of Memphis | Wolf River Chute, Memphis, TN | Regulated Area: Wolf River Chute, mile marker 1.0 to 3.0, Memphis, TN.
86 | 4 | 3rd Saturday in April | BluzCruz Kayak Marathon/BluzCruz Race Committee | Lower Mississippi River, Vicksburg, MS | Regulated Area: Lower Mississippi River, mile marker 457.4 to 437.4, Vicksburg, MS.
87 | 5 | 3rd Saturday in April | Maria Montessori Regatta/Maria Montessori School | Wolf River Chute, Memphis, TN | Regulated Area: Wolf River Chute, mile marker 1.0 to 3.0, Memphis, TN.

| Sector Mobile | Date | Event/sponsor | Sector Mobile location | Regulated area
88 | 1 | 1 Day; Fat Tuesday (Mardi Gras Day) | Mardi Gras Boat Parade/Gulf Shores Homeport Marina | Intracoastal Waterway, Orange Beach, AL to Gulf Shores, AL | Intracoastal Waterway mile marker 155.0 to -159.0 (EHL), Starts at the Wharf Marina, Orange Beach, AL and heads west to Homeport Marina, Gulf Shores, AL.
89 | 2 | 1 Day; 1st weekend following Fat Tuesday | Mobile Air Sea Rescue-Boat Show/Gulf Coast Shows | Mobile River, Mobile, AL | Mobile River, half a mile down river and half a mile upriver from the Mobile Convention Center.
90 | 3 | 1 Day; 1st or 2nd Saturday in Mach | Battle on the Bayou/South Coast Paddling Company | Old Fort Bayou, Ocean Springs, MS | Old Fort Bayou, from Gulf Hills Hotel to the Shed Barbeque.
91 | 4 | 1 Day; Mid March to Mid April | Rowing Competition/University of South Alabama | Black Warrior River, Tuscaloosa, AL | Black Warrior River between river mile marker 339.0 to 341.5.
92 | 5 | 2 Days; 3rd weekend in March | Chattahoochee Challenge/City of Chattahoochee | Apalachicola River, Chattahoochee, GA | Apalachicola River between mile marker 104.6 and 106.0.
93 | 6 | 1 Day; Last Saturday in March | Blessing of the Fleet/Panama City Marina | Saint Andrew Bay, Panama City, FL | Saint Andrew Bay, all waters extending 100 yards out from the Panama City Marina seawall.
94 | 7 | 1 Day; 2nd or 3rd weekend in April | USAT Triathlon/Tuscaloosa Tourism and Sports Commission | Black Warrior River, Tuscaloosa, AL | Black Warrior River mile marker 338.5 to 339.5.
95 | 8 | 2 Days; Between the 1st week in April to the last week in May | Smokin the Sound/Smokin the Sound | Biloxi Ship Channel, Biloxi, MS | Biloxi Ship Channel, Channel Marker 2 thru 35.
96 | 9 | 2 Days; Between the 1st week in April to the last week in May | Smokin the Lake/Smokin the Sound | Lake Gulfport, Gulfport, MS | Lake Gulfport, Bounded by the following coordinates: Eastern boundary; Latitude 30°25′36″ N, Longitude 089°03′8″ W to Latitude 30°25′26″ N, Longitude 089°03′8″ W. Western boundary; Latitude 30°25′32″ N, Longitude 089°03′59″ W, to Latitude 30°25′26″ N, Longitude 089°03′59″ W.
97 | 10 | 1 Day; Next to last or last weekend in April | Dauphin Island Race/Fairhope, Lake Forest, Mobile, and Buccaneer Yacht Clubs | Mobile Bay, Mobile, AL | Mobile Bay Mobile Ship Channel, Channel Markers 37 & 38 thru Channel Markers 49 & 50.
98 | 11 | 1 Day; 1st or 2nd Sunday in May | Blessing of the Fleet/St. Margaret's Catholic Church | Bayou La Batre, Bayou La Batre, AL | All of Bayou La Batre.
99 | 12 | 2 Days; 1st weekend in June | Billy Bowlegs Pirate Festival/Greater Fort Walton Beach Chamber of Commerce | Santa Rosa Sound, Ft. Walton Beach, FL | Santa Rosa Sound, including all waters between an eastern boundary represented by positions 30°24′22.5″ N, 086°35′14″ W; 30°23′51.4″ N, 086°35′14″ W, and a western boundary represented by positions 30°24′13.5″ N, 086°37′11″ W; 30°23′58.5″ N, 086°37′11″ W.
100 | 13 | 1 Day; 1st Sunday in June | Blessing of the Fleet/St. Michael's Catholic Church | Biloxi Channel, Biloxi, MS | All of Biloxi Channel.
101 | 14 | 4 Days; In October | Thunder on the Gulf/Gulf Coast Power Boat Association | Gulf of Mexico, Orange Beach, FL | Gulf of Mexico for the waters off Orange Beach, AL, enclosed by a box starting at a point on the shore at approximately 30°15′39″ N, 087°36′42″ W, then south to 30°14′54″ N, 087°36′42″ W, then east, roughly parallel to the shore line to 30°15′22″ N, 087°33′31″ W, then north to a point on the shore at approximately 30°16′13″ N, 087°33′31″ W.
102 | 15 | 1 Day; Saturday following Thanksgiving | Boat Parade of Lights/City of Panama City & St. Andrews Waterfront Partnership | St. Andrew Bay, Panama City, FL | St Andrew Bay, Starts at St. Andrews Bay Yacht Club and ends at St Andrews Bay Marina.
103 | 16 | 1 Day; 1st Saturday in December | Christmas on the River/Demopolis Area Chamber of Commerce | Tombigbee River, Demopolis, AL | Tombigbee River, from Mile 215.5 to Mile 217.0.
104 | 17 | 1 Day; 1st Saturday in December | Christmas by the River/Moss Point Active Citizens | Beardslee Lake & Robertson Lake, Moss Point, MS | East Beardslee Lake near Hwy 613 bridge to West Robertson Lake parallel to Hwy 613, south to the Jackson County Ski Area.
105 | 18 | 1 Day; 1st Saturday in December | Christmas on the Water/Christmas on the Water Committee | Biloxi Channel, Biloxi, MS | Biloxi Channel from Channel Marker 4 to Channel Marker 30.

PART 165—REGULATED NAVIGATION AREAS AND LIMITED ACCESS AREAS

3. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

4. Add § 165.801 to read as follows:

§ 165.801 Annual Fireworks Displays and other events in the Eighth Coast Guard District requiring safety zones.

The Coast Guard is establishing safety zones for the annual fireworks displays and other events requiring safety zones listed in the table to § 165.801.

(a) In accordance with the general regulations in § 165 of this part, entry into this zone is prohibited unless authorized by the Captain of the Port or a designated representative.

(b) Persons or vessels desiring to enter into or passage through the zone must request permission from the Captain of the Port or a designated representative.

(c) If permission is granted, all persons and vessels shall comply with the instructions of the Captain of the Port or designated representative. Designated representatives include commissioned, warrant, and petty officers of the U.S. Coast Guard.

(d) Informational Broadcasts: The Captain of the Port or a designated representative will inform the public through broadcast notices to mariners of the enforcement period for the safety zone as well as any changes in the planned schedule.

Table 1 of § 165.801—Eighth Coast Guard District Table of Annual Safety Zones
Table No. | Sector Ohio Valley | Date | Sponsor/name | Sector Ohio Valley location | Safety zone
1 | 1 | July 4th | Harrah's 4th of July Celebration | Ohio River, Metropolis, Il | Ohio River mile marker 944.0 to 945.0 Metropolis, Il.
2 | 2 | July 4th | Paducah Parks Department | Ohio River, Paducah, Ky | Ohio River, mile marker 934.0 to 936.0.
3 | 6 | Third weekend in July | Paducah Summer Festival | Ohio River, Paducah, Ky | Ohio River, mile marker 934.0 to 936.0.
4 | 7 | Every Saturday from April through September | Pittsburgh Pirates/Pittsburgh Pirates Fireworks | Allegheny River, Pittsburgh, PA | Allegheny River, mile marker 0.4 to 0.7 Pittsburgh, PA.
5 | 8 | July 4th | Wellsburg 4th of July Committee/Wellsburg 4th July | Ohio River, Wellsburg, WV | Ohio River, mile marker 73.5 to 74.5 Wellsburg, WV.
6 | 9 | One day during the fourth week in July | Upper Ohio Valley Italian Festival/Upper Ohio Valley Italian Festival Fireworks Display | Ohio River, Wheeling, WV | Ohio River, mile marker 90.0 to 90.6 Wheeling, WV.
7 | 10 | One day during the first week of August | Sharpsburg Borough/ Guyasuta Days | Allegheny River, Sharpsburg Borough, Pittsburgh, PA | Allegheny River, mile marker 5.5 to 6.0 Pittsburgh, PA.
8 | 11 | One day during the fourth week of August | Pittsburgh Foundation/Bob O'Connor Cookie Cruise | Ohio River, Pittsburgh, PA | Ohio River, mile marker 0.0 to 0.1 Pittsburgh, PA.
9 | 12 | The third Friday in November | Pittsburgh Downtown Partnership/Light Up Night | Allegheny River, Pittsburgh, PA | Allegheny River, mile marker 0.4 to 1.0 Pittsburgh, PA.
10 | 13 | December 31 | Pittsburgh Cultural Trust/Pittsburgh First Night | Allegheny River, Pittsburgh, PA | Allegheny River, mile marker 0.6 to 0.8 Pittsburgh, PA.
11 | 14 | 2 days—3rd Friday and Saturday in April | Kentucky Derby Festival/Thunder over Louisville | Ohio River, Louisville, KY | Bank to Bank of the Ohio River, mile marker 598.0 to 604.0.
12 | 15 | The 3rd weekend in April | Henderson Tri-Fest/Henderson Breakfast Lions Club | Henderson, KY | Bank to Bank of the Ohio River, mile marker 803.5 to 804.5.
13 | 16 | 1 day—July 4th | Downtown Henderson Project/ Independence bank 4th of July Celebration | Ohio River, Mile 803.5-804.5 Henderson, KY | Bank to Bank of the Ohio River, mile marker 803.5 to 804.5.
14 | 17 | 1 day—July 4th | Louisville Waterfront Development Corp./Waterfront Independence Festival | Ohio River, Louisville, KY | Bank to Bank of the Ohio River, mile marker 603.0 to 604.0.
15 | 18 | 1 day—July 3rd | Louisville Bats Baseball Club/Louisville Bats Fireworks | Louisville, KY Ohio River Mile 603.0-604.0 | Bank to Bank of the Ohio River, mile marker 603.0 to 604.0.
16 | 19 | 1 day—July 4th | Growth Alliance for Greater Evansville/ Evansville Festival | Ohio River, M 792.0-793.5 Evansville, KY | Bank to Bank of the Ohio River, mile marker 792.0 to 793.5.
17 | 20 | 1 day—July 4th | Owensboro Parks and Recreation/ Celebration of the American Spirit | Owensboro, KY Mile 756.75 | Bank to Bank of the Ohio River, mile marker 755.0 to 757.0.
18 | 21 | 1 day—July 4th | City of New Albany/Riverfront Independence Festival | New Albany, KY Ohio River 608.0 | Bank to Bank of the Ohio River mile, marker 607.0 to 609.0.
19 | 22 | First Friday in June | WV Special Olympics | Kanawha River, Charleston, WV | Kanawha River, mile marker 57.9 to 58.9. A mile down from the Kanawha City bridge to the confluence of the Elk and Ohio Rivers.
20 | 23 | First Sunday in June | WV Symphony Fireworks | Kanawha River, Charleston, WV | Kanawha River, mile marker 59.5 to 60.5. Half a mile downriver and upriver from Charleston University.
21 | 24 | Last Saturday in June | St. Albans | Kanawha River, St. Albans, WV | Kanawha River, mile marker 46.0 to 47.0. From the 3rd St. Bridge to a mile up river from the 3rd St. Bridge.
22 | 25 | July 4th | City of Charleston/City of Charleston Independence Day Celebration | Kanawha River, Charleston, WV | Kanawha River, mile marker 57.5 to 59.0, Charleston, WV. Quarter mile up river from the confluence with the Elk River to one mile up river near the Old C&P Boat Ramp.
23 | 26 | July 4th | Summer Motion Inc./Summer Motion | Ohio River, Ashland, KY | Ohio River, mile marker 322.1 to 323.1, Ashland, KY. Approximately 8/10 of a mile up river from the Ashland Bridge to approximately a quarter mile down river from the Ashland bridge.
24 | 27 | July 4th | Big Sandy Superstore Arena/Dawg Dazzle Fireworks Spectacular | Ohio River, Huntington, WV | Ohio River, mile marker 307.8 to 308.8. One-half mile up and down river from the Harris Riverfront Park.
25 | 28 | July 4th | Civic Forum | Ohio River, Portsmouth, OH | Ohio River, mile marker 355.5 to 356.5 Portsmouth, OH. From the confluence of the Scioto and Ohio Rivers, one mile upriver to the U.S. Highway Grant Bridge.
26 | 29 | July 4th | Point Pleasant | Ohio River, Pt. Pleasant, WV | Ohio River, mile marker 266.2 to 265.2 and Kanawha River mile marker .5 to the confluence with the Ohio River. Safety zone starts down river from the Silver Memorial Bridge and runs a mile up river.
27 | 30 | Third Saturday in August | Parkersburg Homecoming Festival | Ohio River, Parkersburg, WV | Ohio River, mile marker 184.0 to 185.0. One-half mile up and down river from the confluence of the Little Kanawha and the Ohio River.
28 | 31 | First Sunday in September | Portsmouth Riverdays | Ohio River, Portsmouth, OH | Ohio River, mile marker 355.5 to 356.5 Portsmouth, OH. From the confluence of the Scioto and Ohio Rivers, one mile upriver to the U.S. Highway Grant Bridge.
29 | 32 | Second Saturday in October | Rod Run Doo Wop | Kanawha River, Charleston, WV | Kanawha River, mile marker 57.5 to 59.0. Downstream from the I-64 Bridge in Charleston, WV to one mile upriver.
30 | 33 | July 4th | Spirit of Freedom Fireworks Urban Broadcasting | Florence, TN | Tennessee River mile marker 255.0 to 257.0.
31 | 34 | The Saturday before July 4th, or on July 4th if that day is a Saturday | Lighting Up the Cumberland Fireworks/Town of Cumberland City | Cumberland City, TN | Cumberland River mile marker 103.0 to 105.0.
32 | 35 | July 4th | Lake Guntersville 4th of July Celebration/Lake Guntersville, AL Chamber of Commerce | Guntersville, AL | Tennessee River mile marker 356.0 to 358.0.
33 | 36 | July 4th | Clarksville Independence Day Fireworks/City of Clarksville | Clarksville, TN | Cumberland River mile marker 125.0 to 127.0.
34 | 37 | July 4th | Knoxville July 4th Fireworks City of Knoxville | Knoxville, TN | Tennessee River mile marker 647.0 to 648.0.
35 | 38 | July 4th | Music City July 4th Nashville CVB | Nashville, TN | Cumberland River mile marker 190.0 to 192.0.
36 | 39 | 1st weekend in September, usually aligns with University of Tennessee's 1st home football game | Boomsday Festival Knoxville Tourism | Knoxville, TN | Tennessee River mile marker 646.0 to 649.0.
37 | 40 | Last weekend in November | Grand Illumination Chattanooga Presents | Chattanooga, TN | Tennessee River mile marker 463.0 to 469.0.
38 | 41 | July 4th | Grand Harbor Marine July 4th Celebration Grand Harbor Marina | Counce, TN | Tennessee River mile marker 214.0 to 216.0 at the mouth of Yellow Creek.
39 | 42 | The Sunday before Labor Day | WEBN/WEBN—Riverfest Fireworks | Ohio River, Cincinnati, OH | Ohio River mile marker 464.0 to 476.0, Cincinnati, OH.
40 | 43 | April through August (Needs Notice of Implementation via Local Notice to Mariners) | Cincinnati Reds/Cincinnati Reds Season Fireworks | Ohio River, Cincinnati, OH | Ohio River mile marker 470.2 to 470.6, Cincinnati, OH.
41 | 44 | The second Saturday in July | City of Bellevue, KY/City of Bellevue Beach Park Concert Fireworks | Ohio River, Bellevue, KY | Ohio River mile marker 469.2 to 470.2, Bellevue, KY.
42 | 45 | May through September (Needs Notice of Implementation via Local Notice to Mariners) | Riverbend Music Center/Riverbend Concerts Series | Ohio River, Cincinnati, OH | Ohio River mile marker 461.1 to 461.4, Cincinnati, OH.
43 | 46 | Second or Third weekend in September | Ohio Sternwheel Festival | Parkersburg, WV Ohio River | Safety zone for the fireworks display, extending from mile marker 171.5 to 172.5 (about a ½ a mile up and down river from the confluence of the Ohio and Muskingum Rivers). Also a restricted area for the stern-wheel race reenactment extending from mile marker 172.4 to 170.3.2 on the Ohio River. (See 33 CFR 100).

| Sector Upper Mississippi River | Date | Sponsor/name | Sector Upper Mississippi River location | Safety zone
45 | 1 | 1 day—4th weekend of July | Marketing Minneapolis LLC/Target Aquatennial Fireworks | Minneapolis, MN | Upper Mississippi River mile marker 853.2 to 854.2 (Minnesota).
46 | 2 | 1 day—4th of July weekend | Radio Dubuque/Radio Dubuque Fireworks and Airs Show | Dubuque, IA | Upper Mississippi River mile marker 581.0 to 583.0 (Iowa).
47 | 3 | 2 days—2nd weekend of July | City of Champlin/Father Hennepin Fireworks Display | Champlin, MN | Upper Mississippi River mile marker 870.5 to 872.0 (Minnesota).
48 | 4 | 1 day—4th of July weekend | Downtown Main Street/Mississippi Alumination | Red Wing, MN | Upper Mississippi River mile marker 790.8 to 791.2 (Minnesota).
49 | 5 | 1 day—4th of July weekend | Tan-Tar-A Resort/Tan-Tar-A 4th of July Fireworks | Lake of the Ozarks, MO | Lake of the Ozarks mile marker 025.8 to 026.2 (Missouri).
50 | 6 | 1 day—1st weekend of September | Tan-Tar-A Resort/Tan-Tar-A Fireworks | Lake of the Ozarks, MO | Lake of the Ozarks mile marker 025.8 to 026.2 (Missouri).
51 | 7 | 1 day—Last Sunday in May | Tan-Tar-A Resort/Tan-Tar-A Memorial Day Fireworks | Lake of the Ozarks, MO | Lake of the Ozarks mile marker 025.8 to 026.2 (Missouri).
52 | 8 | 1 day—4th of July weekend | Lake City Chamber of Commerce/Lake City 4th of July Fireworks | Lake City, MN | Upper Mississippi River mile marker 772.4 to 772.8 (Minnesota).
53 | 9 | 1 day—4th of July weekend | Greater Muscatine Chamber of Commerce/Muscatine 4th of July | Muscatine, IA | Upper Mississippi River mile marker 455.0 to 456.0 (Iowa).
54 | 10 | 1 day—Last weekend in June/First weekend in July | Friends of the River Kansas City/KC Riverfest | Kansas City, KS | Missouri River mile marker 364.8 to 365.2 (Kansas).
55 | 11 | 1 day—4th of July weekend | Louisiana Chamber of Commerce/Louisiana July 4th Fireworks | Louisiana, MO | Upper Mississippi River mile marker 282.0 to 283.0 (Missouri).
56 | 12 | 1 day—2nd weekend in July | Guttenderg Development and Tourism/Stars and Stripes River Day | Guttenderg, IA | Upper Mississippi River mile marker 614.8 to 615.2 (Iowa).
57 | 13 | 4 days—1st or 2nd week of July | Riverfest, Inc./La Crosse Riverfest | La Crosse, WI | Upper Mississippi River mile marker 697.5 to 698.5 (Wisconsin).
58 | 14 | 1 day—4th of July weekend | Hannibal Jaycees/National Tom Sawyer Days | Hannibal, MO | Upper Mississippi River mile marker 308.0 to 309.0 (Missouri).
59 | 15 | 1 day—4th of July weekend | Fort Madison Partner/Fort Madison Fourth of July Fireworks | Fort Madison, WI | Upper Mississippi River mile marker 383.0 to 384.0 (Wisconsin).
60 | 16 | 5 days—Last week in June/First week in July | Taste of Minnesota/Taste of Minnesota | Minneapolis, MN | Upper Mississippi River mile marker 839.8 to 840.2 (Minnesota).
61 | 17 | 1 day—4th of July weekend | John E. Curran/John E. Curran Fireworks | Lake of the Ozarks, MO | Lake of the Ozarks mile marker 008.8 to 009.2 (Missouri).
62 | 18 | 1 day—2nd weekend in July | Prairie du Chien Area Chamber of Commerce/Prairie du Chien Area Chamber Fireworks | Prairie du Chien, WI | Upper Mississippi River mile marker 633.8 to 634.2 (Wisconsin).
63 | 19 | 1 day—4th of July weekend | JMP Radio/Red White and Boom Peoria | Peoria, IL | Illinois River mile marker 162.5 to 162.1 (Illinois).
64 | 20 | 1 day—Last weekend in June/First weekend in July | Hudson Boosters/Hudson Booster Days | Hudson, WI | St. Croix River mile marker 016.8 to 017.2 (Wisconsin).
65 | 21 | 2 days—4th of July weekend | City of St. Charles/St. Charles Riverfest | St. Charles, MO | Missouri River mile marker 028.2 to 028.8 (Missouri).
66 | 22 | 1 day—4th of July weekend | Minneapolis Park and Recreation Board/Red, White, and Boom Minneapolis | Minneapolis, MN | Upper Mississippi River mile marker 853.5 to 854.5 (Minnesota).
67 | 23 | 1 day—4th of July weekend | Davenport One Chamber/Red White and Boom | Davenport, IA | Upper Mississippi River mile marker 482.0 to 482.7 (Iowa).
68 | 24 | 2 days—3rd weekend of July | Amelia Earhart Festival Committee/Amelia Earhart Festival | Kansas City, KS | Missouri River mile marker 422.0 to 424.5 (Kansas).
69 | 25 | 1 day—4th of July weekend | Chillicothe Police Department/Chillicothe 4th of July | Chillicothe, IL | Illinois River mile marker 179.1 to 180.0 (Illinois).
70 | 26 | 2 days—2nd weekend in July | Clinton Riverboat Days/Clinton Riverboat Days | Clinton, IA | Upper Mississippi River mile marker 518.0 to 519.0 (Iowa).
71 | 27 | 1 day—4th of July weekend | Harrah's Casino and Hotel/Harrah's Fireworks Extravaganza | Omaha, NE | Missouri River mile marker 615.0 to 615.6 (Nebraska).
72 | 28 | 1 day—4th of July weekend | Alton Exposition Commission/Mississippi Fireworks Festival | Alton, IL | Upper Mississippi River mile marker 202.5 to 203.0 (Illinois).
73 | 29 | 1 day—3rd Sunday in June | Burlington Steamboat Days/Burlington Steamboat Days | Burlington, IA | Upper Mississippi River mile marker 403.5 to 404.5 (Iowa).
74 | 30 | 1 day—Last Sunday in May | Lodge of the Four Seasons/Lodge of the Four Seasons Memorial Day Fireworks | Lake of the Ozarks, MO | Lake of the Ozarks mile marker 013.8 to 014.2 (Missouri).
75 | 31 | 1 day—First weekend of September | Lodge of the Four Seasons/Labor Day Fireworks | Lake of the Ozarks, MO | Lake of the Ozarks mile marker 013.8 to 014.2 (Missouri).
76 | 32 | 1 day—4th of July weekend | Lodge of the Four Seasons/Lodge of the Four Seasons 4th of July | Lake of the Ozarks, MO | Lake of the Ozarks mile marker 013.8 to 014.2 (Missouri).
77 | 33 | 2 days—3rd weekend in July | Hasting Riverboat Days/Rivertown Days | Hasting, MN | Upper Mississippi River mile marker 813.7 to 815.2 (Minnesota).
78 | 34 | 1 day—3rd Sunday in June | Winona Steamboat Days/Winona Steamboat Days Fireworks | Winona, MN | Upper Mississippi River mile marker 725.4 to 725.7 (Minnesota).
79 | 35 | 2 days—4th of July weekend | Fair of St. Louis/Fair St. Louis | St. Louis, MO | Upper Mississippi River mile marker 179.2 to 180.0 (Missouri).
80 | 36 | Friday and Saturday, every weekend from the 2nd weekend of July until the 2nd weekend in August | Fair of St. Louis/Live on the Levee | St. Louis, MO | Upper Mississippi River mile marker 179.2 to 180.0 (Missouri).
81 | 37 | 1 day—Last weekend in June/First weekend in July | Bellevue Heritage Days/Bellevue Heritage Days | Bellevue, IA | Upper Mississippi River mile marker 556.0 to 556.5 (Iowa).
82 | 38 | 1 day—4th of July weekend | Main Street Parkway Association/Parkville 4th of July Fireworks | Parkville, MO | Missouri River mile marker 378.0 to 377.5 (Missouri).
83 | 39 | 1 day—4th of July weekend | Hermann Chamber of Commerce/Hermann 4th of July | Hermann, MO | Missouri River mile marker 099.0 to 098.0 (Missouri).
84 | 40 | 1 day—4th of July weekend | Grafton Chamber of Commerce/Grafton Chamber 4th of July Fireworks | Grafton, IL | Illinois River mile marker 001.5 to 000.5 (Illinois).
85 | 41 | 1 day—4th of July weekend | Salute to America Foundation, Inc./Salute to America | Jefferson City, MO | Upper Mississippi River mile marker 143.5 to 143.0 (Missouri).
86 | 42 | 1 day—4th of July weekend | McGregor/Marquette Chamber Commerce/Independence Day Celebration | McGregor, IA | Upper Mississippi River mile marker 635.7 to 634.2 (Missouri).
87 | 43 | 2 days—2nd weekend in August | Tug Committee/Great River Tug | Port Byron, IL | Upper Mississippi River mile marker 497.2 to 497.6 (Illinois).
88 | 44 | 1 day—4th of July weekend | City of Stillwater/St. Croix Events/Stillwater 4th of July | Stillwater, MN | St. Croix River mile marker 022.9 to 023.5 (Minnesota).
89 | 45 | 2 days—3rd weekend of September | Riverside Riverfest Committee/Riverfest | Riverside, MO | Missouri River mile marker 372.2 to 371.8 (Missouri).
90 | 46 | 4 days—3rd week of July | St. Croix Events/Lumberjack Days | Stillwater, MN | St. Croix River mile marker 022.9 to 023.5 (Minnesota).
91 | 47 | 1 day—3rd week in July | Rivercade Association/Sioux City Rivercade | North Sioux City, SD | Missouri River mile marker 732.2 to 732.6 (Iowa).
92 | 48 | 2 days—3rd weekend in August | Lake of the Ozarks Shootout, Inc./Lake of the Ozarks Shootout | Lake of the Ozarks, MO | Lake of the Ozarks mile marker 034.5 to 032.5 (Missouri).
93 | 49 | 1 day—1st weekend of September | Camden on the Lakes Labor Day Fireworks/Camden on the Lake | Lake of the Ozarks, MO | Lake of the Ozarks mile marker 007.1 to 006.9 (Missouri).
94 | 50 | 2 days—1st weekend of September | City of Keithsburg/Keithsburg Fireworks Display | Keithsburg, IL | Upper Mississippi River mile marker 427.5 to 427.3 (Missouri).
95 | 51 | 1 day—1st weekend of August | New Piasa Chautauqua/New Piasa Chautauqua | Elsah, IL | Upper Mississippi River mile marker 215.6 to 216.0 (Illinois).
96 | 52 | 1 day—last weekend in May | Horny Toad, Inc./Horny Toad Fireworks Display | Lake of the Ozarks, MO | Lake of the Ozarks mile marker 006.8 to 007.2 (Missouri).
97 | 53 | 1 day—4th of July weekend | Omaha Royals/Omaha World Herald Fireworks | Omaha, NE | Missouri River mile marker 612.1 to 613.9 (Nebraska).
98 | 54 | 1 day—Last weekend in July | Great River Days, Inc./Great River Days | Muscatine, IA | Upper Mississippi River mile marker 455.0 to 456.0 (Iowa).
99 | 55 | 1 day—4th of July weekend | City of East Moline/City of East Moline Fireworks | East Moline, IA | Upper Mississippi River mile marker 490.2 to 489.8 (Iowa).

| Sector Houston- Galveston | Date | Sponsor/Name | Sector Houston-Galveston location | Safety zone
100 | 1 | 1st Saturday (Rain date is 1st Sunday) in May | RIVERFEST Fireworks Display/Port Neches Chamber of Commerce, Port Neches, TX | Neches River, Port Neches, TX | All waters within a 500-yard radius of the fireworks barge anchored in approximate position 29°59′51″ N 093°57′06″ W (NAD 83).
101 | 2 | 2nd Saturday in May | Contraband Days Fireworks Display/Contraband Days Festivities, Inc | Lake Charles, Lake Charles, LA | All waters within a 1000-foot radius of the fireworks barge anchored in approximate position 30°13′39″ N, 093°13′42″ W, Lake Charles, LA (NAD 83).
102 | 3 | July 4th night and every Friday night in June and July | Kemah Board Walk Summer Season Fireworks Display, Kemah, TX | Clear Lake, TX | Clear Creek Channel, including the area within an 840-foot radius of the fireworks barge on the south side of the channel, 100 ft off of Kemah Boardwalk in Galveston, TX and an Rectangle extending 500 feet east, 500 feet west; 1000 feet north, and 1000 feet south, centered around fireworks barge at Light 19 on Clear Lake, Houston, TX.
103 | 4 | July 4th | Sylvan Beach Fireworks | La Porte, TX | Rectangle Extending 250 feet east, 250 feet west; 1000 feet north, and 1000 feet south, centered around fireworks barge located at Sylvan Beach, Houston, TX.
104 | 5 | July 4th (Rain date July 5th) | City of Beaumont 4th of July Celebration/City of Beaumont, TX | Neches River at Riverfront Park, Beaumont, TX | All waters of the Neches River, shoreline to shoreline, from the Trinity Industries dry dock to the northeast corner of the Port of Beaumont's dock No. 5.
105 | 6 | 1st Saturday in December | Christmas Fireworks Display/City of Lake Charles, LA | Lake Charles, Lake Charles, LA | All waters within a 1000-foot radius of the fireworks barge anchored in approximate position 30°13′39″ N, 093°13′42″ W, Lake Charles, LA (NAD 83).

| Sector Corpus Christi | Date | Sponsor/Name | Sector Corpus Christi location | Safety zone
106 | 1 | Memorial Day Weekend | South Padre Island Convention & Visitors Bureau/Laguna Madre Memorial Day Firework | Lower Laguna Madre, South Padre Island, TX | All waters contained within a 1000-ft radius of the fireworks display barge moored at approximate location 26°06′19″ N 097°10′55.4″ W, South Padre Island, TX.
107 | 2 | 2nd, 3rd or 4th Monday in June | Cameron County Clerk's Office/Texas District Court Clerk′s Convention Fireworks | Lower Laguna Madre, South Padre Island, TX | All waters contained within a 1,000-ft radius of the fireworks display barge moored at approximate position 26°06′19″ N 097°10′55.4″ W, South Padre Island, TX.
108 | 3 | July 4th Rain dates of July 5th and July 6th | City of Port Aransas/Port Aransas 4th of July Fireworks | Corpus Christi Ship Chanel—Port Aransas, TX | All waters contained within a 600-ft radius of a point halfway between Port Aransas Harbor Day Beacon 2 to Port Aransas Ferry Landing in the Corpus Christi Ship Channel, Port Aransas, TX.
109 | 4 | July 4th Rain dates of July 5th and July 6th | Buccaneer Commission/4th of July Big Bang Fireworks | USS LEXINGTON/Corpus Christi, TX | All waters contained within a 1,000-ft radius from the bow of the USS LEXINGTON located at approximate position 27°48′50″ N 097°23′18.2″ W, Corpus Christi, TX.
110 | 5 | July 4th Rain dates of July 5th and July 6th | City of Port O'Connor Chamber of Commerce/4th of July Fireworks | King Fisher Park, Port O'Connor, TX | All waters contained within a 1,120-ft radius of the furthest extent of the King Fisher Pier located at approximate position 28°27′15.6″ N 096°24′11.9″ W, Port O′Connor, TX.
111 | 6 | July 4th Rain dates of July 5th and July 6th | City of Point Comfort/4th of July Fireworks | Bayfront Park, Point Comfort, TX | All waters contained within a 1,000-ft radius of Bayfront Park located at approximate position 28°40′52.8″ W 096°33′49.2″ W, Point Comfort, TX.
112 | 7 | July 4th Rain dates of July 5th and July 6th | City of Rockport/Wendell Family Fireworks | Rockport Beach Park/Rockport, TX | All waters contained within a 700-ft radius of the northeast point of Rockport Beach Park located at approximate position 28°02′05.2″ N 097°02′048″ W, Rockport, TX.
113 | 8 | Last Saturday in September | Bayfest, Inc./Bayfest Fireworks | USS Lexington/Corpus Christi, TX | All waters contained within a 1,000-ft radius from the bow of the USS Lexington located at approximate position 27°48′50″ N 097°23′18.2″ W, Corpus Christi, TX.
114 | 9 | Friday nights from May thru September | Boys & Girls Club of Laguna Madre/Fireworks over the Bay | Lower Laguna Madre, South Padre Island, TX | All waters contained within a 1,000-ft radius of the fireworks display barge moored at approximate position 26°06′19″ N 097°10′55.4″ W, South Padre Island, TX.
115 | 10 | Labor Day weekend | Laguna Madre Education Foundation/Laguna Madre Labor Day Fireworks | Lower Laguna Madre, South Padre Island, TX | All waters contained within a 1,000-ft radius of the fireworks display barge moored at approximate position 26°06′19″ N 097°10′55.4″ W, South Padre Island, TX.
116 | 11 | 1st or 2nd Friday and Saturday in December | City of Rockport/Rockport “Tropical” Christmas Festival Fireworks | Rockport Beach Park/Rockport, TX | All waters contained within a 700-ft radius of the northeast point of Rockport Beach Park located at approximate position 28°02′05.2″ N 097°02′048″ W, Rockport, TX.
117 | 12 | December 30th, 31st or Jan 1st | South Padre Island Convention & Visitors Bureau/SPI New Year′s Fireworks | Lower Laguna Madre, South Padre Island, TX | All waters contained within a 1,000-ft radius of the fireworks display barge moored at approximate position 26°06′19″ N 097°10′55.4″ W, South Padre Island, TX.
118 | 13 | Odd Week Fridays from April thru September | Corpus Christi Hooks Baseball Team/Friday Night Fireworks | Corpus Christi Ship Channel, Corpus Christi, TX | All waters contained within a 1,000-ft radius of the Corpus Christi Hooks stadium parking lot located at approximate position 27°48′39.2″ N 097°23′55.2″ W, Corpus Christi, TX.

| Sector New Orleans | Date | Sponsor/Name | Sector New Orleans location | Safety zone
119 | 1 | Monday before Mardi Gras | Riverwalk Marketplace/Lundi Gras Fireworks Display | Mississippi River, New Orleans, LA | Mississippi River mile marker 93.0 to 96.0, New Orleans, LA.
120 | 2 | July 3rd | St. John the Baptist/Independence Day celebration | Mississippi River, Reserve, LA | Mississippi River mile marker 175.0 to 176.0, Reserve, LA.
121 | 3 | July 4th | Riverfront Marketing Group/Independence Day Celebration | Mississippi River, New Orleans, LA | Mississippi River mile marker 94.3 to 95.3, New Orleans, LA.
122 | 4 | July 4th | Boomtown Casino/Independence Day Celebration | Harvey Canal, Harvey, LA | Harvey Canal mile marker 4.0 to 5.0, Harvey, LA.
123 | 5 | 4th of July | Independence Day Celebration, Main Street 4th of July (Fireworks Display) | Morgan City, LA | Morgan City Port Allen Route mile marker 0.0 to 1.0, Morgan City, LA.
124 | 6 | July 4th | WBRZ—The Advocate 4th of July Fireworks Display | Baton Rouge, LA | In the vicinity of the USS KIDD, the Lower Mississippi River from mile marker 228.8 to 230.0, Baton Rouge, LA.
125 | 7 | The Saturday before July 4th or on July 4th if that day is a Saturday | Independence Day Celebration/Bridge Side Marine | Grand Isle, LA | 500 Foot Radius from the Pier located at Bridge Side Marine, 2012 LA Highway 1, Grand Isle, LA (Lat: 29°12′14″ N; Long: 090°02′28.47″ W).
126 | 8 | 1st Weekend of September | LA Shrimp and Petroleum Festival Fireworks Display, LA Shrimp and Petroleum Festival and Fair Association | Morgan City, LA | Atchafalaya River at mile marker 118.5, Morgan City, LA.
127 | 9 | 1st Weekend in December (Usually that Friday, subject to change due to weather) | Office of Mayor-President/Downtown Festival of Lights | Baton Rouge, LA | Located on Left Descending Bank, Lower Mississippi River north of the USS KIDD, at mile marker 230, Baton Rouge, LA.
128 | 10 | December 31st | Crescent City Countdown Club/New Year's Celebration | Mississippi River, New Orleans, LA | Mississippi River mile marker 93.5-95.5, New Orleans, LA.
129 | 11 | December 31st | Boomtown Casino/New Year's Celebration | Harvey Canal, Harvey, LA | Harvey Canal mile marker 4.0 to 5.0, Harvey, LA.
130 | 12 | July 4th | USS KIDD Veterans Memorial/Fourth of July Star-Spangled Celebration | Baton Rouge, LA | In the vicinity of the USS KIDD, the Lower Mississippi River from mile marker 228.8 to 230.0, Baton Rouge, LA.

| Sector Lower MS River | Date | Sponsor/Name | Sector Lower MS River location | Safety zone
131 | 1 | The Sunday before Memorial Day | Riverfest Inc./Riverfest Fireworks display | Arkansas River, Little Rock, AR | Regulated Area: Arkansas River mile marker 118.8 to 119.5, Main Street Bridge, Little Rock, AR.
132 | 2 | The Saturday before Memorial Day | Memphis in May/Sunset Symphony Fireworks Display | Lower Mississippi River, Memphis, TN | Regulated Area: Lower Mississippi River mile marker 735.0 to 736.0, Memphis, TN.
133 | 3 | July 4th or the weekend before | Fourth of July Fireworks/Memphis Center City Commission | Lower Mississippi River, Memphis, TN | Regulated Area: Lower Mississippi River mile marker 735.5 to 736.5, Mud Island, Memphis, TN.
134 | 4 | July 4th or the weekend before | Pops on the River Fireworks Display/Arkansas Democrat Gazette | Arkansas River, Little Rock, AR | Regulated Area: Arkansas River mile marker 118.8 to 119.5, Main Street Bridge, Little Rock, AR.
135 | 5 | July 4th or the weekend before | Uncle Sam Jam Fireworks, Alexandria, LA./Champion Broadcasting of Alexandria | Red River, Alexandria, LA. | Regulated Area: Red River mile marker 83.0 to 87.0, Alexandria, LA.
136 | 6 | July 4th or the weekend before | Greenville Chamber of Commerce/Fourth of July Fireworks | Lake Ferguson, Greenville, MS | Regulated Area: Waters of Lake Ferguson extending 500 yards in all directions from the concrete pad, 33°24′34″ N, 091°03′58″ W, adjacent to the Lighthouse Casino, Greenville, MS.
137 | 7 | July 4th or the weekend before | Pyro Fire Inc./Fourth of July Celebration | Yazoo River, Vicksburg, MS | Regulated Area: Yazoo River, mile marker 1.0 to 3.0, Vicksburg, MS.
138 | 8 | July 4th or the weekend before | Artisan Pyro Inc./Fourth of July Celebration | Lower Mississippi River, Natchez, MS | Regulated Area: Lower Mississippi River, mile marker 365.5 to 364.5, Natchez, MS.
139 | 9 | Third Friday and Saturday in October | The Great Mississippi River Balloon Race and Fireworks show/Great Mississippi River Balloon Race Committee | Lower Mississippi River, Natchez, MS | Regulated Area: Lower Mississippi River, mile marker 365.5 to 364.5, Natchez, MS.
140 | 10 | Fourth Saturday in May | Memphis in May Air Show, Memphis in May | Lower Mississippi River, Memphis, TN | Regulated Area: Lower Mississippi River, mile marker 733.0 to 735.5, Memphis, TN.
141 | 11 | First Saturday in December | Monroe Christmas Fireworks/Monroe Jaycee | Ouachita River, Monroe, LA | Regulated Area: Ouachita River mile marker 168.0 to 169.0, Monroe, LA.

| Sector Mobile | Date | Sponsor/Name | Sector Mobile location | Safety zone
142 | 1 | 1 Day; 1st week of January | GoDaddy.Com Bowl/GoDaddy.Com | Mobile Channel, Mobile, AL | Mobile Channel, all waters extending 500 feet around position 30°41′27″ N, 088°02′06″ W.
143 | 2 | Multiple displays from May to December | Harbor Walk Seasonal Fireworks/Legendary, Inc | East Pass to Choctawhatchee Bay, Destin, FL | East Pass to Choctawhatchee Bay, all waters extending 700′ around position 30′23′17″ N, 086°30′54″ W.
144 | 3 | 2 Days; 1st weekend in June | Billy Bowlegs Pirate Festival/Greater Fort Walton Beach Chamber of Commerce | Santa Rosa Sound, Ft. Walton Beach, FL | Santa Rosa Sound, all waters extending 150 yards around a fireworks barge that will be positioned between Fort Walton Beach Landing and the Gulf Intracoastal Waterway.
145 | 4 | July 4th | Niceville July 4th Fireworks Show/City of Niceville, FL | Boggy Bayou, Niceville, FL | Boggy Bayou, all waters extending 250 yards around a fireworks barge that will be positioned at approximately 30°30′46.5″ N, 086°29′13″ W.
146 | 5 | July 4th | Fourth of July Celebration/City of Fort Walton Beach | Santa Rosa Sound, Fort Walton Beach | Santa Rosa Sound, all waters extending 100 yards around a fireworks barge that will be positioned between Fort Walton Beach Landing and the Gulf Intracoastal Waterway.
147 | 6 | 1 Day; 1st week of July | Sound of Independence/Hurlburt Field AFB | Santa Rosa Sound, Fort Walton Beach | Santa Rosa Sound, all waters extending 200 yards around a fireworks barge that will be positioned at approximately 30°24′22″ N, 086°42′11″ W.
148 | 7 | July 4th | Biloxi Bay Fireworks/Biloxi Bay Chamber of Commerce | Biloxi Bay, Biloxi, MS | Biloxi Bay, all waters extending 200 yards around a fireworks barge that will be positioned at approximately 30°23′12″ N, 088°52′20″ W.
149 | 8 | October | MS Gulf Coast Boaters Rendezvous/MS Gulf Coast Billfish Classic | Biloxi Channel, Biloxi, MS | Biloxi Channel, all waters extending 200 yards around channel buoy No. 26.
150 | 9 | December 31st | New Year's Eve Celebration/City of Mobile | Mobile Channel, Mobile, AL | Mobile Channel, all waters extending 500 feet around position 30°41′50″ N, 088°02′13″ W.
151 | 10 | 2 Days; Mid March to end of April | Angels Over the Bay/Keesler Air Force Base | Back Bay Biloxi, Biloxi, MS | Back Bay Biloxi, Bounded by the following coordinates: Eastern boundary; Latitude 30°25′47.6″ N, Longitude 088°54′13.6″ W, to Latitude 30°24′43″ N, Longitude 088°54′13.6″ W. Western Boundary; Latitude 30°25′25.6″ N, Longitude 088°56′9″ W, to Latitude 30°24′55″ N, Longitude 088°56′9″ W.
152 | 11 | 4 Days; 2nd weekend in July | Blue Angels Air Show/Naval Air Station Pensacola | Gulf of Mexico & Santa Rosa Sound, Pensacola, FL | Gulf of Mexico to include all waters 1.75 nautical miles east and 1.5 nautical miles west of position 30°19′36″ N, 087°08′23″ W and extending 1000 yards south of Pensacola Beach creating a box, referred to as the “Show Box”. Santa Rosa Sound to include all waters from Deer Point to Sharp Point and all waters within Little Sabine Bay.

Dated: February 3, 2012.
Roy A. Nash,
Rear Admiral, U.S. Coast Guard, Commander, Eighth Coast Guard District.

[FR Doc. 2012-4930 Filed 2-29-12; 8:45 am]

BILLING CODE 9110-04-P